DEPARTMENT OF DEFENSE

Department of the Navy

Notice of Availability of Government-Owned Inventions; Available for Licensing

AGENCY: Department of the Navy, DOD.

ACTION: Notice.

SUMMARY: The inventions listed below are assigned to the United States Government, as represented by the Secretary of the Navy and are available for licensing by the Department of the Navy. U.S. Patent No. 6,879,011 entitled “Magnetically Shielded Circuit Board” and U.S. Patent Application No. 11/108,150 entitled “Method for Field Calibrating an Ion Spectrometer”.

ADDRESSES: Requests for copies of the inventions cited should be directed to the Naval Surface Warfare Center, Crane Div., Code 054, Bldg 1, 300 HWY 361, Crane, IN 47522-5001 and must include the patent number.

FOR FURTHER INFORMATION CONTACT: Mr. Brian Bailey, Naval Surface Warfare Center, Crane Div., Code 054, Bldg 1, 300 HWY 361, Crane, IN 47522-5001, Telephone (812) 854-1865. An application for license may be downloaded from: http://www.crane.navy.mil/newscommunity/techtrans_CranePatents.asp.

(Authority: 35 U.S.C. 207, 37 CFR part 404.)
Dated: June 14, 2005.
I. C. Le Moyne Jr.
Lieutenant, Judge Advocate General's Corps, U.S. Navy, Alternate Federal Register Liaison Officer.

[FR Doc. 05-12494 Filed 6-23-05; 8:45 am]

BILLING CODE 3810-FF-P